DEPARTMENT OF TRANSPORTATION

Federal Aviation Administration

14 CFR Part 39

[Docket No. FAA-2013-0351; Directorate Identifier 2009-SW-049-AD; Amendment 39-17770; AD 2014-04-11]

RIN 2120-AA64

Airworthiness Directives; Airbus Helicopters (Type Certificate Previously Held by Eurocopter France) (Airbus Helicopters)

AGENCY: Federal Aviation Administration (FAA), DOT.

ACTION: Final rule.

SUMMARY: We are adopting a new airworthiness directive (AD) for Airbus Helicopters Model AS350B, BA, B1, B2, B3, and D, and Model AS355E, F, F1, F2, and N helicopters with certain tail rotor (T/R) blades. This AD requires installing additional rivets to secure each T/R blade trailing edge tab (tab), and inspecting for evidence of debonding of the tab after the rivets are installed. This AD was prompted by reports of T/R blade tab debonding. The actions of this AD are intended to prevent loss of a T/R blade tab, which could result in excessive vibration and loss of control of the helicopter.

DATES: This AD is effective April 9, 2014.

The Director of the Federal Register approved the incorporation by reference of certain documents listed in this AD as of April 9, 2014.

ADDRESSES: For service information identified in this AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the foreign authority's ADs, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Gary Roach, Aviation Safety Engineer, Regulations and Policy Group, Rotorcraft Directorate, FAA, 2601 Meacham Blvd., Fort Worth, Texas 76137; telephone (817) 222-5110; email gary.b.roach@faa.gov.

SUPPLEMENTARY INFORMATION:

Discussion

On April 22, 2013, at 78 FR 23692, the Federal Register published our notice of proposed rulemaking (NPRM), which proposed to amend 14 CFR part 39 by adding an AD that would apply to Eurocopter France (now Airbus Helicopters) Model AS350B, BA, B1, B2, B3, D; and AS355E, F, F1, F2, and N helicopters with a T/R blade, part number (P/N) 355A12-0040-00, 355A-12-0040-01, 355A12-0040-02, 355A12-0040-03, 355A-12-0040-04, 355A12-0040-05, 355A-12-0040-07, 355A-12-0040-08, or 355A12-0040-14, all serial numbers (S/N); or P/N 355A12-0050-04, 355A12-0050-10, or 355A12-0050-12, with a S/N 8400 through 9224. The NPRM proposed to require installing additional rivets to secure each tab, and inspecting for evidence of debonding of the tab after the rivets are installed. The proposed requirements were intended to prevent loss of a T/R blade tab, which could result in excessive vibration and loss of control of the helicopter.

The NPRM was prompted by AD No. F-2004-178, dated November 10, 2004, issued by the Direction Generale de l'Aviation Civile (DGAC), which is the aviation authority for France, for Model AS350B, BA, BB, B1, B2, B3, and D helicopters, fitted with certain T/R blades. The DGAC also issued AD No. F-2004-176, dated November 10, 2004, for Model AS355E, F, F1, F2, and N helicopters with certain T/R blades. The DGAC advises of reports of T/R blade tab debonding, and that the loss of the tab leads to a significant increase in the aircraft's vibration level. As a result, the ADs mandate compliance with the manufacturer's service information to install additional rivets on the tabs.

Since we issued the NPRM, Eurocopter France changed its name to Airbus Helicopters. This AD reflects that change and updates the contact information to obtain service information.

Comments

After our NPRM (78 FR 23692, April 22, 2013) was published, we received comments from one commenter.

Request

American Eurocopter Corp. requested that we remove tail rotor blade P/Ns 355A12-0040-14, 355A12-0050-10, and 355A12-0050-12 from the applicability of our AD. The commenter stated that these tail rotor blades have trailing tabs that are integral with the tail rotor blade skin and not bonded on, and therefore are not susceptible to the unsafe condition identified in our AD. We agree and have made the requested change.

FAA's Determination

These helicopters have been approved by the aviation authority of France and are approved for operation in the United States. Pursuant to our bilateral agreement with France, the DCAG, its technical representative, has notified us of the unsafe condition described in its AD. We are issuing this AD because we evaluated all information provided by the DGAC and determined the unsafe condition exists and is likely to exist or develop on other helicopters of these same type designs and that air safety and the public interest require adopting the AD requirements as proposed, except we have changed the applicability from Eurocopter France to Airbus Helicopters and removed tail rotor blades, P/N 355A12-0040-14, 355A12-0050-10, and 355A12-0050-12, from the Applicability section. These changes are consistent with the intent of the proposals in the NPRM (78 FR 23692, April 22, 2013) and will not increase the economic burden on any operator nor increase the scope of the AD.

Differences Between This AD and the DGAC AD

This AD does not include the Model AS350 BB because it does not have an FAA-issued type certificate. This AD requires compliance within 100 hours time-in-service. The DGAC ADs require compliance within 100 flying hours “without exceeding 3 months.”

Related Service Information

We reviewed Eurocopter Alert Service Bulletin (ASB) No. 64.00.05, Revision 2, dated February 15, 2007, for Model AS350B, BA, BB, B1, B2, B3, and D helicopters, and ASB No. 64.00.04, Revision 2, dated February 15, 2007, for Model AS355E, F, F1, F2, and N helicopters.

These ASBs specify, within 100 flying hours without exceeding three months, installing additional rivets on T/R blade tabs and inspecting each tab for debonding after the rivets have been installed. The DGAC classified these ASBs as mandatory and issued AD No. F-2004-176 and AD No. F-2004-178 to ensure the continued airworthiness of these helicopters.

Costs of Compliance

We estimate that this AD affects 654 helicopters of U.S. registry and that labor costs average $85 a work-hour. Based on these estimates, we expect the following costs:

• Installing rivets and inspecting for tab debonding takes 1 hour for a labor cost of $85. Parts cost $100 for a total cost of $185 per helicopter. The cost for the U.S. fleet totals $120,990.

• Replacing the tab with an airworthy tab, if needed, takes 4 hours for a total labor cost of $340. Parts cost $100, for a total cost of $440 per helicopter.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-04-11 Airbus Helicopters (Type Certificate Previously Held by Eurocopter France): Amendment 39-17770; Docket No. FAA-2013-0351; Directorate Identifier 2009-SW-049-AD.

(a) Applicability

This AD applies to Model AS350B, BA, B1, B2, B3, D; and AS355E, F, F1, F2, and N helicopters with a tail rotor (T/R) blade, part number (P/N) 355A12-0040-00, 355A-12-0040-01, 355A12-0040-02, 355A12-0040-03, 355A-12-0040-04, 355A12-0040-05, 355A-12-0040-07, 355A-12-0040-08, all serial numbers (S/N); or P/N 355A12-0050-04, with a S/N 8400 through 9224, certificated in any category.

(b) Unsafe Condition

This AD defines the unsafe condition as T/R blade trailing edge tab (tab) debonding. This condition could result in excessive vibration of the helicopter and loss of control of the helicopter.

(c) Effective Date

This AD becomes effective April 9, 2014.

(d) Compliance

You are responsible for performing each action required by this AD within the specified compliance time unless it has already been accomplished prior to that time.

(e) Required Actions

Within 100 hours time-in-service, install additional rivets on the trailing edge tab of each T/R blade, according to the following procedures, referencing Figure 1 of Eurocopter Alert Service Bulletin (ASB) No. 64.00.05, Revision 2, dated February 15, 2007, or ASB No. 64.00.04, Revision 2, dated February 15, 2007, whichever is applicable to your model helicopter:

(1) Lightly sand the area to be drilled, using No. 80 then No. 220 sandpaper.

(2) Locate and drill eight 2.5 mm-diameter holes (T): 4 holes (T) 12 mm from the existing rivets (E) and on the centerline of the existing rivets (E), then 4 holes (T) 24 mm from the existing rivets (E) and on the centerline of the existing rivets (E).

(3) Deburr and clean the area around the drilled holes.

(4) Install 8 rivets (1) on tab (L). Any installation direction of the rivets is permissible (pressure face or suction face of the T/R blade).

(5) Inspect the tab for debonding.

(i) If there is no debonding, paint the area.

(ii) If there is debonding, replace the tab.

(f) Alternative Methods of Compliance (AMOCs)

(1) The Manager, Safety Management Group, Rotorcraft Directorate, FAA, may approve AMOCs for this AD. Send your proposal to: Gary Roach, Aviation Safety Engineer, Regulations and Policy Group, Rotorcraft Directorate, FAA, 2601 Meacham Blvd., Fort Worth, Texas 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in the Direction Generale de l'Aviation Civile (DGAC) AD No. F-2004-176 and AD No. F-2004-178, both dated November 10, 2004. You may view the DCAG ADs on the Internet at http://www.regulations.gov in Docket No. FAA-2013-0351.

(h) Subject

Joint Aircraft Service Component (JASC) Code: 6410, Tail rotor blades.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Alert Service Bulletin 64.00.05, Revision 2, dated February 15, 2007.

(ii) Eurocopter Alert Service Bulletin 64.00.04, Revision 2, dated February 15, 2007.

(3) For Eurocopter service information identified in this AD, contact Airbus Helicopters, Inc., 2701 N. Forum Drive, Grand Prairie, TX 75052; telephone (972) 641-0000 or (800) 232-0323; fax (972) 641-3775; or at http://www.airbushelicopters.com/techpub.

(4) You may view this service information that is incorporated by reference at the FAA, Office of the Regional Counsel, Southwest Region, 2601 Meacham Blvd., Room 663, Fort Worth, Texas 76137.

(5) You may view this service information that is incorporated by reference at the National Archives and Records Administration (NARA). For information on the availability of this material at NARA, call (202) 741-6030, or go to: http://www.archives.gov/federal-register/cfr/ibr-locations.html.

Issued in Fort Worth, Texas, on February 19, 2014.
Lance T. Gant,
Acting Directorate Manager, Rotorcraft Directorate, Aircraft Certification Service.

[FR Doc. 2014-04285 Filed 3-4-14; 8:45 am]

BILLING CODE 4910-13-P